DEPARTMENT OF THE TREASURY

Bureau of Alcohol, Tobacco and Firearms

[Notice No. 911]

Expiration of the Registration Period for Possession of the USAS-12, Striker-12, and Streetsweeper Shotguns (ATF Ruling 2001-1)

AGENCY: Bureau of Alcohol, Tobacco and Firearms (ATF), Department of the Treasury.

ACTION: General notice.

SUMMARY: The Bureau of Alcohol, Tobacco and Firearms (ATF) is issuing this notice to announce the availability of ATF Ruling 2001-1. This ruling advises that the registration period for people who are currently in possession of the USAS-12, Striker-12, and Steetsweeper shotguns expires on May 1, 2001.

ADDRESSES: Advance copies of ATF Ruling 2001-1 are available at no cost upon request from the National Firearms Act Branch, Bureau of Alcohol, Tobacco and Firearms, 650 Massachusetts Avenue, NW., Washington, DC 20226. The ruling may also be viewed at ATF's web site at: http://www.atf.treas.gov.

FOR FURTHER INFORMATION CONTACT: Cheryl Fisher, National Firearms Act Branch, Bureau of Alcohol, Tobacco and Firearms, 650 Massachusetts Avenue, NW., Washington, DC 20226 (202-927-8330).

SUPPLEMENTARY INFORMATION:

Background

The Bureau of Alcohol, Tobacco and Firearms (ATF) is announcing the issuance of ATF Ruling 2001-1. This ruling, which will be published in a future issue of the “Alcohol, Tobacco and Firearms Quarterly Bulletin,” advises that the registration period for people who are currently in possession of the USAS-12, Striker-12, and Streetsweeper shotguns will expire on May 1, 2001. The full text of the ruling follows:

ATF Ruling 2001-1

Pursuant to ATF Rulings 94-1 (ATF Q.B. 1994-1, 22) and 94-2 (ATF Q.B. 1994-1, 24), the Bureau of Alcohol, Tobacco and Firearms (ATF) classified the USAS-12, Striker 12, and Streetsweeper shotguns as destructive devices under the National Firearms Act (NFA), 26 U.S.C. Chapter 53. The NFA requires that certain “firearms” be registered and imposes taxes on their making and transfer. The term “firearm” is defined in section 5845 to include “destructive devices.” The term “destructive device” is defined in section 5845(f)(2) as follows:

[T]he term “destructive device” means * * * (2) any type of weapon by whatever name known which will, or which may be readily converted to, expel a projectile by the action of an explosive or other propellant, the barrel or barrels of which have a bore of more than one-half inch in diameter, except a shotgun or shotgun shell which the Secretary finds is generally recognized as particularly suitable for sporting purposes; * * *.

The USAS-12, Striker 12, and Streetsweeper shotguns were classified as destructive devices pursuant to section 5845(f) because they are shotguns with a bore of more than one-half inch in diameter which are not generally recognized as particularly suitable for sporting purposes.

Pursuant to 26 U.S.C. 7805(b), ATF. Ruls. 94-1 and 94-2 were issued prospectively with respect to the making, transfer, and special (occupational) taxes imposed by the NFA. Thus, although the classification of the three shotguns as NFA weapons was retroactive, the prospective application of the tax provisions allowed registration without payment of tax. ATF has contacted all purchasers of record of the shotguns to advise them of the classification of the weapons as destructive devices and that the weapons must be registered. ATF has registered approximately 8,200 of these weapons to date.

Held, the registration period for the USAS-12, Striker-12, and Streetsweeper shotguns will close on May 1, 2001. No further registrations will be accepted after that date. Persons in possession of unregistered NFA firearms are subject to all applicable penalties under 26 U.S.C. Chapter 53.

Approved: February 2, 2001.
Bradley A. Buckles,
Director.

[FR Doc. 01-3391 Filed 2-8-01; 8:45 am]

BILLING CODE 4810-31-P